DEPARTMENT OF ENERGY

Federal Energy Regulatory Commission

[Docket No. CP08-31-000]

Transcontinental Gas Pipe Line Corporation; Notice of Site Visit

June 25, 2008.

On July 9, 2008, staff of the Federal Energy Regulatory Commission will conduct a site visit of the Transcontinental Gas Pipe Line Corporation's proposed Sentinel Expansion Project—Downingtown Mainline “A” Replacement. The purpose of this site visit is to review the residential areas potentially affected by the proposed replacement of mainline “A” and to look at potential alternatives.

Interested parties may accompany staff during its visit and should meet at 10 a.m. (EDT) at: Target, Western Parking Lot closest to North Pottstown Pike, 201 Sunrise Boulevard, Exton, PA 19341, FERC Contact Phone Number (day of the site visit): (202) 502-6352.

Those planning to accompany staff during its visit must provide their own transportation.

For additional information, please contact the Commission's Office of External Affairs at 1-866-208-FERC.

Kimberly D. Bose,
Secretary.

[FR Doc. E8-15089 Filed 7-2-08; 8:45 am]

BILLING CODE 6717-01-P